DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327, and other Federal agencies: The U.S. Army Corps of Engineers, U.S. Fish and Wildlife Service, and National Marine Fisheries Service.

SUMMARY: The FHWA, on behalf of Caltrans, is issuing this notice to announce actions taken by Caltrans, that are final within the meaning of 23 U.S.C. 139(l)(1). The actions relate to a proposed highway project, State Route 1 Gleason Beach Roadway Realignment Project, District 04-SON-1 p.m. 15.1/15.7 located between Bodega Bay and Jenner in the County of Sonoma, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 6, 2017. If the Federal law that authorizes judicial review of a claim provides a time period of less than 150 days for filing such claim, then that shorter time period still applies.

FOR FURTHER INFORMATION CONTACT: California Department of Transportation, Attn: Wahida Rashid, Environmental Branch Chief, Office of Environmental Analysis, MS-8B, 111 Grand Avenue, Oakland, CA 94612, (510) 286-5935, wahida.rashid@dot.ca.gov, Normal Office Hours: 9-5, M-F.

SUPPLEMENTARY INFORMATION: Effective July 1, 2007, the Federal Highway Administration (FHWA) assigned, and the California Department of Transportation (Caltrans) assumed, environmental responsibilities for this project pursuant to 23 U.S.C. 327. Notice is hereby given that Caltrans, has taken final agency actions subject to 23 U.S.C. 139(l)(1) by issuing licenses, permits, and approvals for the following highway project in the State of California: State Route 1 (SR 1) Gleason Beach Roadway Realignment Project: Caltrans proposes to realign SR 1 at Gleason Beach in Sonoma County to maintain SR 1, which has been damaged by multiple erosive forces including severe storms in 1996 and later years. The project would construct a two-lane roadway and a bridge spanning Scotty Creek along a new alignment eastward and inland of the current alignment between post miles (PMs) 15.1 and 15.7 of SR 1 in Sonoma County, CA. The purpose of this project is to protect SR 1 from coastal erosion while maintaining SR 1's long-term regional and local connectivity for the surrounding communities. The environmental effects of the Gleason Beach Project are evaluated and described in the Final Environmental Impact Report (EIR)/Environmental Assessment (EA), a joint document pursuant to the California Environmental Quality Act and the National Environmental Policy Act. Key issues identified in the Final EIR/EA include impacts to biological resources, aquatic (wetland) resources, water quality and storm water runoff, geology/seismicity, paleontology, cultural resources, visual/aesthetics, residential acquisition, and temporary construction effects. Measures to avoid, minimize, and mitigate adverse environmental effects are included in the Environmental Commitments Record in the Final EIR/EA. The Final EIR/EA identified Alternative 19A as the preferred alternative and Caltrans has determined that Alternative 19A will have no significant impacts on the human environment. The actions by the Federal agencies, and the laws under which such actions were taken, are described in the Final EIR/EA for the project, approved on June 30, 2016, and in the Caltrans Finding of No Significant Impact (FONSI) also issued on June 30, 2016, and in other documents in the Caltrans project records. The Final EIR/EA, FONSI, and other project records are available by contacting Caltrans at the address provided above. The Caltrans FEIR/EA and FONSI can be viewed and downloaded from the project Web site at http://www.dot.ca.gov/dist4/envdocs.html, or viewed at public libraries in the project area (Sonoma County).

This notice applies to all Federal agency decisions as of the issuance date of this notice and all laws under which such actions were taken, including but not limited to:

1. General: National Environmental Policy Act (NEPA) (42 U.S.C. 4321-4351 et seq.).

2. Council on Environmental Quality Regulations.

3. Federal-Aid Highway Act of 1970, 23 U.S.C. 109.

4. MAP-21, the Moving Ahead for Progress in the 21st Century Act.

5. Clean Air Act (42 U.S.C. 7401-7671(q)).

6. Migratory Bird Treaty Act (16 U.S.C. 703-712).

7. Historic and Cultural Resources: Section 106 of the National Historic Preservation Act of 1966, as amended, (16 U.S.C. 470(f) et seq.).

8. Clean Water Act (Section 401) (33 U.S.C. 1251-1377) of 1977 and 1987 (Federal Water Pollution Control Act of 1972).

9. Federal Endangered Species Act of 1973 (16 U.S.C. 1531-1543).

10. Fish and Wildlife Coordination Act of 1934, as amended.

11. Noise Control Act of 1972.

12. Safe Drinking Water Act of 1944, as amended.

13. Executive Order 11990—Protection of Wetlands

14. Executive Order 11988—Floodplain Management

15. Executive Order 13112, Invasive Species.

16. Executive Order 12898, Federal Actions to Address Environmental Justice and Low-Income Populations

17. Title VI of the Civil Rights Act of 1964, as amended.

18. Department of Transportation Act of 1966, Section 4(f) (49 U.S.C. 303).

(Catalog of Federal Domestic Assistance Program Number 20.205, Highway Planning and Construction. The regulations implementing Executive Order 12372 regarding intergovernmental consultation on Federal programs and activities apply to this program.)

Authority: 23 U.S.C. 139(l)(1).

Issued on: August 31, 2016.
Matt Schmitz,
Director, Project Delivery, Federal Highway Administration, Sacramento, California.

[FR Doc. 2016-21599 Filed 9-7-16; 8:45 am]

BILLING CODE 4910-22-P